ENVIRONMENTAL PROTECTION AGENCY

[FRL-6906-6]

Agency Information Collection Activities: Submission for OMB Review; Comment Request; National Emission Standards for Hazardous Air Pollutants for Source Categories: Gasoline Distribution (Stage I)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standards for Hazardous Air Pollutants for Source Categories: Gasoline Distribution (Stage I), 40 CFR Part 63, Subpart R: OMB Control Number 2060-0325, expiration date February 28, 2001. The ICR describes the nature of the information collection and its expected burden and cost; where appropriate, it includes the actual data collection instrument.

DATES: Comments must be submitted on or before December 26, 2000.

ADDRESSES: Send comments, referencing EPA ICR No. 1659.04 and OMB Control No. 2060-0325, to the following addresses: Sandy Farmer, U.S. Environmental Protection Agency, Collection Strategies Division (Mail Code 2822), 1200 Pennsylvania Avenue, N.W., Washington, D.C. 20460; and to Office of Information and Regulatory Affairs, Office of Management and Budget (OMB), Attention: Desk Officer for EPA, 725 17th Street, N.W., Washington, D.C. 20503.

FOR FURTHER INFORMATION CONTACT: For a copy of the ICR, contact Sandy Farmer at EPA by phone at (202) 260-2740, by E-Mail at Farmer.Sandy@epamail.epa.gov, or download off the Internet at http://www.epa.gov/icr and refer to EPA ICR No. 1659.04. For technical questions about the ICR, contact Julie Tankersley at EPA by phone at (202) 564-7002, by E-Mail at Tankersley.Julie@epamail.epa.gov.

SUPPLEMENTARY INFORMATION: Title: National Emission Standards for Hazardous Air Pollutants for Source Categories: Gasoline Distribution (Stage I), 40 CFR Part 63, Subpart R, OMB Control Number 2060-0325; EPA ICR No. 1659.04 expiration date February 28, 2001. This is a request for extension of a currently approved collection.

Abstract: This ICR contains record keeping and reporting requirements that are mandatory for compliance with 40 CFR part 63, subpart R. Effective enforcement of this rule is necessary due to the hazardous nature of benzene (a known human carcinogen) and the toxic nature of the other 10 Hazardous Air Pollutants (HAP) emitted from gasoline distribution facilities. In order to ensure compliance with the standards, adequate reporting and recordkeeping is necessary. This information enables the Agency to: (1) Identify the sources subject to the standard; (2) Ensure that leakage emissions from cargo tanks and process piping equipment components (both liquid and vapor) during loading are being minimized; (3) Ensure that emission control devices are being properly operated and maintained; and (4) Ensure that emissions from storage vessels are minimized and rim seal and fitting defects are repaired on a timely basis.

Specifically, the rule's reporting requirements that apply to both bulk gasoline terminals and pipeline breakout stations include initial notification; notification of compliance status; notification of construction/reconstruction; notification of anticipated startup; semiannual reports; and reporting of area source compliance. In addition, bulk gasoline terminals are required to provide notification of performance tests and on CMS evaluation. The rule's record keeping requirements that apply to both bulk gasoline terminals and pipeline breakout stations entail maintaining records of: equipment visual inspections; equipment leak data; storage tank seal inspections; startups/shutdowns/malfunctions; and area source status. In addition, bulk gasoline terminals are required to maintain records by filing cargo tank inspection records; updating cargo tank inspections; and by cross-checking the cargo tank inspection file.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 17, 2000 (65 FR 50196). No comments were received.

Burden Statement: The annual public reporting and record keeping burden for this collection of information is estimated to average 62 hours per response. Burden means the total time, effort, or financial resources expended by persons to generate, maintain, retain, or disclose or provide information to or for a Federal agency. This includes the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of new/existing pipeline breakout stations or bulk gasoline terminals.

Estimated Number of Respondents: 263.

Frequency of Response: Semi-annually and on occasion.

Estimated Total Annual Hour Burden: 32,575 hours.

Estimated Total Annualized Capital, O&M Cost Burden: $851,000.

Send comments on the Agency's need for this information, the accuracy of the provided burden estimates, and any suggested methods for minimizing respondent burden, including through the use of automated collection techniques to the addresses listed above. Please refer to EPA ICR No. 1659.04 and OMB Control No. 2060-0325 in any correspondence.

Dated: November 16, 2000.
Oscar Morales,
Director, Collection Strategies Division.

[FR Doc. 00-30010 Filed 11-22-00; 8:45 am]

BILLING CODE 6560-50-P